DEPARTMENT OF ENERGY

Federal Energy Regulatory Commission

[Docket No. RP00-348-000]

Canyon Creek Compression Company; Notice of Proposed Changes in FERC Gas Tariff

June 21, 2000.

Take notice that on June 16, 2000, Canyon Creek Compression Company (Canyon) tendered for filing to be a part of its FERC Gas Tariff, Third Revised Volume No. 1, the following tariff sheets, to be effective March 27, 2000:

Third Revised Sheet No. 143

Second Revised Sheet No. 145

Fourth Revised Sheet No. 148

Second Revised Sheet No. 150

First Revised Sheet No. 167

Canyon states that on February 9, 2000, the Federal Energy Regulatory Commission (Commission) issued its final rule regarding the regulation of short-term interstate natural gas transportation services in Docket Nos. RM98-10-000 and RM98-12-000 (Order No. 637). In the instant filing, Canyon is filing to implement provisions of Order No. 637 regarding the waiver of the rate ceiling for short-term capacity release transactions and the prospective limitations on the availability of the Right of First Refusal (ROFR).

Canyon states that Order No. 637 provides for a waiver of the rate ceiling for short-term (less than one year) capacity release transactions until September 30, 2002 and requires pipeline to file tariff revisions within 180 days of the effective date of the rule, i.e., March 27, 2000, to remove tariff sheets as required. Unless extended by Commission action, the tariff provisions removing the price cap submitted herin shall not be effective after September 30, 2002.

Canyon also states that it is filing revised tariff sheets implementing portions of Order No. 637 which provide that the ROFR be applicable only to contracts at the maximum tariff rate having a term of twelve consecutive months or longer of service.

Canyon respectfully requests waiver of any provisions of its Tariff and/or the Commission's Regulations required to permit the instant filing to become effective as proposed.

Canyon states that copies of the filing have been mailed to its customers and interstate state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference room. This filing may be viewed on the web at http://www.ferc.fed.us/online/rims.htm (call 202-208-2222 for assistance).

David P. Boergers,
Secretary.

[FR Doc. 00-16135 Filed 6-26-00; 8:45 am]

BILLING CODE 6717-01-M